ENVIRONMENTAL PROTECTION AGENCY

40 CFR Part 770

[EPA-HQ-OPPT-2017-0245; FRL-9971-38]

RIN 2070-AK36

Voluntary Consensus Standards Update; Formaldehyde Emission Standards for Composite Wood Products; Withdrawal of Direct Final Rule

AGENCY: Environmental Protection Agency (EPA).

ACTION: Direct final rule; withdrawal.

SUMMARY: In the Federal Register of October 25, 2017, EPA published both a direct final rule and proposed rule to update the voluntary consensus standards that originally published in the Toxics Substances Control Act (TSCA) Title VI formaldehyde emission standards for composite wood products final rule on December 12, 2016. In addition, in the direct final rule and proposed rule the EPA amended the testing requirements for panel producers and third-party certifiers establishing correlation between approved quality control test methods and either the ASTM E1333-14 test chamber, or, upon showing equivalence, the ASTM D6007-14 test chamber. As noted in the direct final rule, if EPA received adverse comment on the proposed amendments, the Agency would publish a timely withdrawal of the direct final rule in the Federal Register informing the public that the direct final action will not take effect. The Agency did receive adverse comment on the proposed rule amendments, and is therefore withdrawing the direct final rule and will instead proceed with a final rule based on the proposed rule after considering all public comments.

DATES: Effective December 8, 2017, the direct final rule published in the Federal Register of October 25, 2017 (82 FR 49287) (FRL-9962-84), is withdrawn.

FOR FURTHER INFORMATION CONTACT: For technical information contact: Erik Winchester, National Program Chemicals Division, Office of Pollution Prevention and Toxics, Environmental Protection Agency, 1200 Pennsylvania Ave., NW., Washington, DC 20460-0001; telephone number: (202) 564-6450; email address: winchester.erik@epa.gov.

For general information contact: The TSCA-Hotline, ABVI-Goodwill, 422 South Clinton Ave., Rochester, NY 14620; telephone number: (202) 554-1404; email address: TSCA-Hotline@epa.gov.

SUPPLEMENTARY INFORMATION:

I. Does this action apply to me?

A list of potentially affected entities is provided in the Federal Register of October 25, 2017 (82 FR 49287). If you have questions regarding the applicability of this action to a particular entity, consult the technical person listed under FOR FURTHER INFORMATION CONTACT.

II. What rule is being withdrawn?

In the October 25, 2017 Federal Register, EPA published both a direct final rule (see 82 FR 49287) and proposed rule (see 82 FR 49302) (FRL-9962-80) pursuant to section 601 of TSCA that would have updated several of the voluntary consensus standards incorporated by reference at § 770.99 as published on December 12, 2016 (see 81 FR 89674) (FRL-9949-90). These voluntary consensus standards have been updated, withdrawn, or superseded since publication of the original final rule in 2016. Additionally, the direct final rule would have amended testing requirements for demonstration of equivalence and correlation between approved quality control test methods and either the ASTM E1333-14 test chamber, or, upon showing equivalence in accordance with § 770.20(d), the ASTM D6007-14 test chamber under § 770.20(d)(2)(i).

Since the direct final rule and proposed rule's publication, EPA has received a comment on the proposed amendments to the voluntary consensus standard updating action that the Agency considers to be adverse. As a result of receiving an adverse comment, EPA is withdrawing the direct final rule published in the Federal Register on October 25, 2017. All comments are available for review in the public docket. EPA will address the public comments received on this action in a subsequent final rule.

III. How do I access the docket?

To access the docket, please go to http://www.regulations.gov and follow the online instructions using the docket ID number EPA-HQ-OPPT-2017-0245. Additional information about the Docket Facility is also provided under ADDRESSES in the October 25, 2017 (82 FR 49287) Federal Register document. If you have questions, consult the technical person listed under FOR FURTHER INFORMATION CONTACT.

IV. Good Cause Finding

EPA finds that there is “good cause” under the Administrative Procedure Act (5 U.S.C. 553(b)(3)(B)) to withdraw the direct final rule discussed in this document without prior notice and comment. For this document, notice and comment is impracticable and unnecessary because EPA is under a time limit to publish this withdrawal. It was determined that this document is not subject to the 30-day delay of effective date generally required by 5 U.S.C. 553(d) as there is good cause for the withdrawal to be effective immediately. This withdrawal must become effective prior to the effective date of the direct final rule being withdrawn, as EPA explained in the direct final rule itself.

V. Statutory and Executive Order Reviews

This document withdraws regulatory requirements that have not gone into effect. As such, the Agency has determined that this withdrawal will not have any adverse impacts, economic or otherwise. The statutory and Executive Order review requirements applicable to the direct final rule being withdrawn were discussed in the October 25, 2017 (82 FR 49287) Federal Register document. Those review requirements do not apply to this action because it is a withdrawal and does not contain any new or amended requirements.

VI. Congressional Review Act (CRA)

Pursuant to the CRA (5 U.S.C. 801 et seq.), EPA will submit a report containing this rule and other required information to the U.S. Senate, the U.S. House of Representatives, and the Comptroller General of the United States prior to publication of the rule in the Federal Register. This action is not a “major rule” as defined by 5 U.S.C. 804(2). Section 808 of the CRA allows the issuing agency to make a rule effective sooner than otherwise provided by CRA if the agency makes a good cause finding that notice and public procedure is impracticable, unnecessary, or contrary to the public interest. As required by 5 U.S.C. 808(2), this determination is supported by a brief statement in Unit IV.

List of Subjects in 40 CFR Part 770

Environmental protection, Formaldehyde, Incorporation by reference, Reporting and recordkeeping requirements, Third-party certification, Toxic substances, Wood.

Dated: December 5, 2017.
E. Scott Pruitt,
Administrator.

[FR Doc. 2017-26655 Filed 12-7-17; 8:45 am]

BILLING CODE 6560-50-P